DEPARTMENT OF LABOR

Office of Disability Employment Policy

Agency Information Collection Activities; Proposed Collection; Comment Request

ACTION: Notice of extension of approved data collection.

SUMMARY: The U.S. Department of Labor, as part of its continuing effort to reduce paperwork and respondent burden, conducts a pre-clearance consultation process to provide the general public and Federal agencies with an opportunity to comment on proposed and/or continuing collections of information in accordance with the Paperwork Reduction Act of 1995 (PRA95) [44 U.S.C. 3506(c)(2)(A)]. This process helps ensure that requested data can be provided in the desired format, reporting burdens are minimized, collection instruments are clearly understood, and the impact of collection requirements on respondents can be properly assessed. Currently the Office of Disability Employment Policy (ODEP) is soliciting comments concerning an already approved data collection for the following Employer Assistance Referral Network (EARN) forms: EARN Provider Enrollment Form; EARN Employer Enrollment Form; EARN Employer and Provider Surveys. A copy of the approved information collection request (ICR) can be obtained by contacting the office listed below in the address section of this notice.

DATES: Written comments must be submitted to the office shown in the address section below on or before February 21, 2006.

ADDRESSES: Richard Horne, U.S. Department of Labor, Office of Disability Employment Policy, 200 Constitution Avenue, NW., Suite S-1303, Washington, DC 20210. Telephone: (202) 693-7880. This is not a toll-free number.

FOR FURTHER INFORMATION CONTACT: Richard Horne, telephone: (202) 693-7880, e-mail: horne.richard@dol.gov.

SUPPLEMENTARY INFORMATION:

I. Background

The Employer Assistance Referral Network (EARN) is a nationwide service designed to provide employers with a technical, educational, and informational resource to simplify and encourage the hiring of qualified workers. Historically, disability programs required employers to do much of the work in the finding and hiring of people with disabilities. The Office of Disability Employment Policy (ODEP) of the Department of Labor has designed EARN to alleviate these barriers and do much of the work for the employer.

EARN is a service from the Office of Disability Employment Policy (ODEP) of the Department of Labor. This referral service links employers with providers who refer appropriate candidates with disabilities. The service is provided by means of a nationwide toll-free Call Center.

EARN is a service of the Office of Disability Employment Policy which was established pursuant to section 1(a)(1) of the Consolidated Appropriations Act, 2001 (Pub. L. 106-554) H.R. 5656, see Title I, (“Departmental Management”) 29 U.S.C. 551 et seq.; 5 U.S.C. 301; and Executive Order 13187, “The President's Disability Employment Partnership Board (PDEPB)” (January 10, 2001).

This service, and the data collection component is authorized pursuant to Public Law 106-554 which direct the Office of Disability Policy to provide initiatives such as EARN to “further the objective of eliminating employment barriers to the training and employment of people with disabilities”.

II. Desired Focus of Comments

The Department is particularly interested in comments which:

• Evaluate whether the collection of information is necessary for the proper performance of the functions of the agency, including whether the information will have practical utility;

• Evaluate the accuracy of the agency's estimate of the burden of the collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Action

This extended ICR covers four forms: EARN Provider Enrollment Form, EARN Employer Enrollment Form, EARN Employer Survey and EARN Provider Survey. The enrollment forms (Employer Enrollment and Provider Enrollment) will be used to enroll provider and employers who wish to participate and use this service. The surveys (Employer Survey and Provider Survey) will collect quantitative data on participants' levels of satisfaction with individual service elements and their satisfaction with the service as a whole. The surveys will also solicit free-text comments from participants regarding the service.

Agency: Office of Disability Employment Policy.

Titles: EARN Provider Enrollment Form, EARN Employer Enrollment Form, EARN Employer Survey, EARN Provider Survey.

OMB Number: 1230-0003.

Frequency: On occasion.

Affected Public: Businesses or other for-profit; Not-for-profit institutions; Farms; Government; and State, local, or tribal government.

Number of Respondents: 13,500.

Form | Estimated number of annual responses | Average response time (hours) | Estimated burden hours
EARN Provider Enrollment Form | 6,000 | 0.33 | 1,980
EARN Employer Enrollment Form | 7,500 | 0.33 | 2,475
EARN Employer Survey | 300 | 0.33 | 99
EARN Provider Survey | 300 | 0.33 | 99
Total | 14,100 |  | 4,653

Total Burden Cost (capital/startup): $0.

Total Burden Cost (operating/maintaining): $0.

Description: These surveys are designed to collect data from service providers and employers. For each provider, we will collect Point of Contact (POC) information and information about the types of clients the provider serves. We also request information about the size of the provider organization, whether a fee is charged for placement services, and employer references. For each employer, we will collect information about the number of employees, geographic location, industry, specific jobs offered, and Point of Contact (POC) information. The Employer Survey and Provider Survey will collect quantitative data on participants' levels of satisfaction with individual service elements and their satisfaction with the service as a whole. The surveys will also solicit free-text comments from participants regarding the service. We will present survey data in the aggregate for all Employers and Providers. We will combine survey data with system-generated data reports containing demographic data for the sample groups as well as performance data for the Call Center.

Signed at Washington, DC, this December 14, 2005.
Roy Grizzard,
Assistant Secretary.

[FR Doc. 05-24277 Filed 12-20-05; 8:45 am]

BILLING CODE 4510-CX-P